DEPARTMENT OF ENERGY

Federal Energy Regulatory Commission

[Project No. 2103-002 Washington]

Cominco American Inc.; Notice of Availability of Environmental Assessment

December 11, 2001.

In accordance with the National Environmental Policy Act of 1969 and the Federal Energy Regulatory Commission's (Commission) regulations, 18 CFR part 380 (Order No. 486, 52 FR 47897), the Office of Energy Projects has reviewed the application for subsequent license for the Cedar Creek Project, located on Cedar Creek in Stevens County, Washington, and has prepared an Environmental Assessment (EA) for the project. 2.058 acres of federal lands, managed by the Department of the Interior's Bureau of Land Management, are affected by this project.

The EA contains the staff's analysis of the potential environmental impacts of issuing a subsequent license for the project and concludes that the issuance of a subsequent license as proposed by Cominco American Inc. would not constitute a major federal action that would significantly affect the quality of the human environment.

The EA is attached to a Commission order issued on December 7, 2001, for the above application. Copies of the EA can be obtained by calling the Commission's Public Reference Room at (202) 208-1371. Copies of the EA can also be obtained through the Commission's homepage at http://www.ferc.gov.

For further information, contact Kenneth Hogan at (202) 208-0434.

Linwood A. Watson, Jr.,
Acting Secretary.

[FR Doc. 01-31083 Filed 12-17-01; 8:45 am]

BILLING CODE 6717-01-P